DEPARTMENT OF HEALTH AND HUMAN SERVICES

National Committee on Vital and Health Statistics; Meeting

AGENCY: Centers for Disease Control and Prevention, HHS.

ACTION: Notice of meeting.

SUMMARY: Pursuant to the Federal Advisory Committee Act, the Department of Health and Human Services (HHS) announces the following advisory committee meeting. This meeting is open to the public. The public is welcome to obtain the link to attend this meeting by following the instructions posted on the Committee website: https://ncvhs.hhs.gov/meetings/full-committee-meeting-12/.

DATES: The meeting will be held Tuesday, December 6, 2022: 10:30 a.m.-5:30 p.m. EDT and Wednesday, December 7, 2022: 10:30 a.m.-4:30 p.m. EDT.

ADDRESSES: Virtual open meeting.

FOR FURTHER INFORMATION CONTACT: Substantive program information may be obtained from Rebecca Hines, MHS, Executive Secretary, NCVHS, National Center for Health Statistics, Centers for Disease Control and Prevention, 3311 Toledo Road, Hyattsville, Maryland 20782, via electronic mail to vgh4@cdc.gov; or by telephone (301) 458-4715. Summaries of meetings and a roster of Committee members are available on the home page of the NCVHS website https://ncvhs.hhs.gov/, where further information including an agenda and instructions to access the broadcast of the meeting will be posted.

Should you require reasonable accommodation, please telephone the CDC Office of Equal Employment Opportunity at (770) 488-3210 as soon as possible.

SUPPLEMENTARY INFORMATION:

Purpose: As outlined in its Charter, the National Committee on Vital and Health Statistics assists and advises the Secretary of HHS on health data, data standards, statistics, privacy, national health information policy, and the Department's strategy to best address those issues. At this meeting, the Committee will receive updates from HHS officials, hold discussions on current health data policy topics, and discuss its work plan for the upcoming period. The Subcommittee on Privacy, Confidentiality and Security (PCS) will present a recent environmental scan it commissioned entitled, “Ongoing and Emerging Issues in Privacy and Security in a Post-COVID-19 Era,” and discuss with fellow members potential opportunities where the Committee's advice to HHS may be useful. The PCS Subcommittee also will review with the full Committee possible development of recommendations stemming from briefings held during the Committee's July 21, 2022, meeting specific to data access and privacy for Tribal Epidemiology Centers.

The Subcommittee on Standards will brief the Committee on preparations for its January 18-19, 2023, hearing focused on requests for new and updated transaction standards and operating rules. See the notice and request for comment regarding this meeting published at 87 Federal Register 65782 on November 1, 2022, and available at this link: https://www.govinfo.gov/content/pkg/FR-2022-11-01/pdf/2022-23678.pdf. The briefing will include an update on collaborations with the Workgroup on Electronic Data Interchange (WEDI)—also an advisor to the Secretary of Health and Human Services (HHS)—to inform deliberations as the Committee considers drafting recommendations to HHS on proposed new and updated standards and operating rules. The Subcommittee on Standards also will update the full Committee on follow up activities to previous recommendations on the transition to the 11th Revision of the International Classification of Diseases (ICD-11) and discuss plans for the year ahead. Last, the Committee will identify areas of focus for its 2023 Report to Congress.

The Committee will reserve time for public comment toward the end of the agenda on both days. Meeting times and topics are subject to change. Please refer to the agenda posted on the NCVHS website for updates: https://ncvhs.hhs.gov/meetings/full-committee-meeting-12/.

Sharon Arnold,
Associate Deputy Assistant Secretary, Science and Data Policy, Office of the Assistant Secretary for Planning and Evaluation.

[FR Doc. 2022-25334 Filed 11-21-22; 8:45 am]

BILLING CODE 4150-05-P